SECURITIES AND EXCHANGE COMMISSION

17 CFR Part 250

General Rules and Regulations, Public Utility Holding Company Act of 1935

CFR Correction

In Title 17 of the Code of Federal Regulations, Part 240 to end, revised as of April 1, 2000, on page 529, in §250.87 paragraph (b), third line down, “(b)” is removed and “(a)” is added in its place.

[FR Doc. 00-55513 Filed 8-29-00; 8:45 am]

BILLING CODE 1505-01-D